ENVIRONMENTAL PROTECTION AGENCY

40 CFR Part 52

[EPA-R01-OAR-2010-0460; A-1-FRL-9817-2]

Approval and Promulgation of Air Quality Implementation Plans; Connecticut; Reasonably Available Control Technology Update To Address Control Techniques Guidelines Issued in 2006, 2007, and 2008

AGENCY: Environmental Protection Agency (EPA).

ACTION: Proposed rule.

SUMMARY: The EPA is proposing to approve a State Implementation Plan (SIP) revision submitted by the State of Connecticut. This revision establishes and requires Reasonably Available Control Technology (RACT) for several categories of volatile organic compound (VOC) sources. The intended effect of this action is to propose approval of these requirements into the Connecticut SIP. This action is being taken in accordance with the Clean Air Act.

DATES: Written comments must be received on or before June 24, 2013.

ADDRESSES: Submit your comments, identified by Docket ID Number EPA-R01-OAR-2010-0460 by one of the following methods:

1. www.regulations.gov: Follow the on-line instructions for submitting comments.

2. Email: arnold.anne@epa.gov.

3. Fax: (617) 918-0047.

4. Mail: “Docket Identification Number EPA-R01-OAR-2010-0460”, Anne Arnold, U.S. Environmental Protection Agency, EPA New England Regional Office, Office of Ecosystem Protection, Air Quality Planning Unit, 5 Post Office Square—Suite 100, (Mail code OEP05-2), Boston, MA 02109-3912.

5. Hand Delivery or Courier. Deliver your comments to: Anne Arnold, Manager, Air Quality Planning Unit, U.S. Environmental Protection Agency, EPA New England Regional Office, Office of Ecosystem Protection, Air Quality Planning Unit, 5 Post Office Square—Suite 100, (mail code OEP05-2), Boston, MA 02109-3912. Such deliveries are only accepted during the Regional Office's normal hours of operation. The Regional Office's official hours of business are Monday through Friday, 8:30 to 4:30, excluding legal holidays.

Instructions: Direct your comments to Docket ID No. EPA-R01-OAR-2010-0460. EPA's policy is that all comments received will be included in the public docket without change and may be made available online at www.regulations.gov, including any personal information provided, unless the comment includes information claimed to be Confidential Business Information (CBI) or other information whose disclosure is restricted by statute. Do not submit through www.regulations.gov, or email, information that you consider to be CBI or otherwise protected. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at Office of Ecosystem Protection, U.S. Environmental Protection Agency, EPA New England Regional Office, Office of Ecosystem Protection, Air Quality Planning Unit, 5 Post Office Square—Suite 100, Boston, MA. EPA requests that if at all possible, you contact the contact listed in the FOR FURTHER INFORMATION CONTACT section to schedule your inspection. The Regional Office's official hours of business are Monday through Friday, 8:30 to 4:30, excluding legal holidays.

In addition, the state's submittals are available for public inspection during normal business hours, by appointment at the state environmental agency: The Bureau of Air Management, Department of Energy and Environmental Protection, State Office Building, 79 Elm Street, Hartford, CT 06106-1630.

FOR FURTHER INFORMATION CONTACT: David Mackintosh, Air Quality Planning Unit, U.S. Environmental Protection Agency, New England Regional Office, 5 Post Office Square—Suite 100, (Mail Code OEP05-02), Boston, MA 02109-3912, telephone 617-918-1584, facsimile 617-918-0584, email mackintosh.david@epa.gov.

SUPPLEMENTARY INFORMATION: Throughout this document whenever “we,” “us,” or “our” is used, we mean EPA.

Organization of this document. The following outline is provided to aid in locating information in this preamble.

I. What action is EPA proposing?

II. What is the background for this proposed action?

III. What is included in the submittals?

IV. What is EPA's evaluation of the submittals?

A. Metal Furniture Coating

B. Paper Coating

C. Miscellaneous Metal and Plastic Parts Coatings

D. Flexible Package Printing

E. Offset Lithographic Printing and Letterpress Printing

F. Large Appliance Coatings

G. Industrial Solvent Cleaning and Spray Application Equipment Cleaning

H. Consumer Products

I. Adhesives and Sealants

J. Withdrawn Provisions

K. Minor Changes and Negative Declarations

L. Conclusion

V. Proposed Action

VI. Statutory and Executive Order Reviews

I. What action is EPA proposing?

EPA is proposing to approve Connecticut's revisions to Section 22a-174-20, “Control of organic compound emissions,” and Connecticut's newly adopted Sections 22a-174-40, “Consumer Products,” and 22a-17444, “Adhesives and Sealants,” which address RACT for the VOC source categories covered by Control Technique Guidelines (CTGs) issued by EPA in 2006, 2007, and 2008. Connecticut's rules were submitted to EPA on February 1, 2008, November 18, 2008, April 29, 2010, and November 21, 2012. EPA is also proposing to approve the negative declarations for the CTGs for which Connecticut determined no applicable sources exist in the State of Connecticut.

II. What is the background for this action?

In 1997, EPA revised the health-based National Ambient Air Quality Standard (NAAQS) for ozone, setting it at 0.08 parts per million (ppm) averaged over an 8-hour time frame. EPA set the 8-hour ozone standard based on scientific evidence demonstrating that ozone causes adverse health effects at lower ozone concentrations and over longer periods of time than was understood when the pre-existing 1-hour ozone standard was set. EPA determined that the 8-hour standard would be more protective of human health, especially with regard to children and adults who are active outdoors, and individuals with a pre-existing respiratory disease, such as asthma.

On April 30, 2004, pursuant to the Federal Clean Air Act (the Act, or CAA), 42 U.S.C. 7401 et seq., EPA designated portions of the country as being in nonattainment of the 1997 8-hour ozone NAAQS (69 FR 23858). Two areas in Connecticut, together encompassing the entire state, were designated nonattainment for ozone and classified as moderate: Greater Connecticut, CT; and New York-N. New Jersey-Long Island, NY-NJ-CT. Connecticut is also part of the Ozone Transport Region (OTR) under Section 184(a) of the CAA. Sections 182(b)(2) and 184 of the CAA compel states with moderate and above ozone nonattainment areas, as well as areas in the OTR respectively, to submit a SIP revision requiring the implementation of RACT for sources covered by a CTG and for all major sources. A CTG is a document issued by EPA which establishes a “presumptive norm” for RACT for a specific VOC source category.

Furthermore, on May 27, 2008, EPA made further revisions to the ozone NAAQS setting the 8-hour standard to 0.075 ppm (73 FR 16436). Today's proposed action does not address the requirements of the 2008 ozone NAAQS.

On October 5, 2006, EPA issued four new CTGs which states were required to address by October 5, 2007 (71 FR 58745). Then, on October 9, 2007, EPA issued three more CTGs which states were required to address by October 9, 2008 (72 FR 57215). Lastly, on October 7, 2008, EPA issued an additional four CTGs which states were required to address by October 7, 2009 (73 FR 58481).

On February 1, 2008, Connecticut submitted its consumer products regulation to EPA as part of its 8-hour Ozone Attainment Demonstration SIP revision. Then, on November 18, 2008, Connecticut submitted its adhesives and sealants regulation as part of its Annual Fine Particulate Matter (PM2.5) Attainment Demonstration SIP revision. On April 29, 2010, Connecticut submitted a SIP revision that addressed nine CTGs. Then on November 21, 2012, Connecticut submitted a SIP revision that addressed the remaining CTG for miscellaneous metal and plastic parts coatings. Lastly, in letters dated March 13, 2013 and April 3, 2013, Connecticut withdrew a number of provisions from the April 29, 2010 and February 1, 2008 submittals respectively.

III. What is included in the submittals?

Connecticut's SIP revisions consist of updates to VOC RACT requirements to address the eleven CTGs issued by EPA from 2006 through 2008. Connecticut submitted negative declarations for three CTGs: automobile and light-duty truck assembly coating; fiberglass boat manufacturing; and flat wood paneling coating.¹ Connecticut adopted regulations for eight CTGs: flexible package printing; industrial cleaning solvents; large appliance coatings; metal furniture coatings; miscellaneous industrial adhesives; miscellaneous metal and plastic parts coatings; offset lithographic printing and letterpress printing; and paper, film and foil coatings. Additionally, Connecticut adopted a consumer products regulation based on the 2006 Ozone Transport Commission (OTC) recommendations for this category.

¹ Complete citations for each CTG document are given in Section IV.

IV. What is EPA's evaluation of the submittals?

A. Metal Furniture Coating

Connecticut's Section 22a-174-20(p) “Metal Furniture Coating” was previously approved by EPA on October 19, 2000 (65 FR 62620) and contained just one general coating limit of 0.36 kilograms of VOC per liter (kg VOC/l). The revised rule includes eight coating categories with limits specific to the drying process (baked or air dried) ranging from 0.275 kg to 0.420 kg VOC/l, consistent with the limits recommended in EPA's CTG for Metal Furniture Coatings (EPA 453/R-07-005, September 2007). While two specialty coating categories, pretreatment coatings and metallic coatings, have a higher limit (0.420 kg VOC/l baked or air dried) than the previous general limit, the new general use coating limit has been reduced from 0.36 kg to 0.275 kg VOC/l baked or air dried. As noted by Connecticut, general use coatings are applied more frequently than pretreatment and metallic coatings, thus, fewer VOCs will be emitted as a result of this regulation revision. This determination is also consistent with the EPA guidance memorandum, entitled Approving SIP Revisions Addressing VOC RACT Requirements for Certain Coating Categories, from Scott Mathias to Regional Air Division Directors, dated March 17, 2011. The revised rule also requires facilities to use work practices that limit VOC emissions and minimize spills during material application, storage, containment, conveyance, and mixing. In addition, the revised rule also clarifies record keeping requirements. Therefore, the revised rule satisfies the anti-back sliding requirements in Section 110(l) of the CAA.

B. Paper Coating

Connecticut's Section 22a-174-20(q) “Paper Coating” was previously approved by EPA on October 19, 2000 (65 FR 62620) and contained a general emissions limit of 0.35 kg VOC/l of coating. The revised regulation has been renamed “Paper, film and foil coating” and, while it contains the same general emissions limit, it now applies to a broader scope of activities, consistent with EPA's CTG for Paper, Film, and Foil Coatings (EPA 453/R-07-003, September 2007). Consistent with the CTG, the revised regulation also includes the following additional VOC emission requirements for facilities with a potential to emit 25 tons or more VOCs per year: An emission limit of 0.35 kilograms of VOC per kilogram of coating solids applied (except pressure sensitive tape and label); an emission limit of 0.20 kilograms of VOC per kilogram of coating solids applied (pressure sensitive tape and label only); the operation of a capture and control device with 90% efficiency; or the use of an alternative method approved by the state and EPA in accordance with the requirements of Connecticut's Section 22a-174-20(cc). Where this regulation refers to the “daily weighted average of the VOC content of all coatings used,” EPA interprets this to be the sum of the volume of each coating applied each day, multiplied by the VOC content of each coating applied each day; divided by the total volume of all coatings applied each day.² There are also updated work practices and general recordkeeping requirements for all applicable facilities. Connecticut's revised rule satisfies the anti-back sliding requirements in Section 110(l) of the CAA, since it applies to a broader scope of activities than the previously SIP-approved version of the rule.

² See page 335 of the EPA document “Model Volatile Organic Compound Rules for Reasonably Available Control Technology,” June 1992.

C. Miscellaneous Metal and Plastic Parts Coatings

Connecticut's Section 22a-174-20(s), “Miscellaneous Metal and Plastic Parts Coatings,” was previously approved by EPA on October 19, 2000 (65 FR 62624). The revised rule expands the scope of the rule to include plastic parts, with new limits for pleasure craft metal and plastic parts coatings in new Section 22a-174-20(kk). The revised Section 22a-174-20(s) contains updated work practices, coating application methods, and recordkeeping requirements for all applicable facilities. The regulation requires coatings to be applied by one of several specified methods, but also allows the use of other coating application methods capable of achieving a transfer efficiency equivalent to, or better than, that provided by high-volume low-pressure (HVLP) spray application. The EPA CTG for Miscellaneous Metal and Plastic Parts Coatings (EPA-453/R-08-003, September 2008) defines transfer efficiency as “the percent of coating applied to the metal furniture component or product,” and EPA interprets references to “transfer efficiency” in Connecticut's regulation as bearing the same meaning as in the CTG. Additional control options permit equivalent emissions limits expressed in terms of mass of VOC per volume of solids as applied or the use of add-on controls capable of achieving an overall VOC efficiency of 90 percent.

The new coating limits generally follow the recommendations in EPA's CTG for Miscellaneous Metal and Plastic Parts Coating, with the exception of three coating categories. Connecticut adopted higher coating limits than the CTG for extreme high gloss topcoat, other substrate antifoulant coating, and antifouling sealer/tire. For these three categories, Connecticut reviewed industry data and determined that for purpose of functionality, cost, and VOC emissions, the alternative limits adopted for these three coating categories constitute RACT. Connecticut's approach is consistent with the EPA guidance memorandum, entitled Control Technique Guidelines for Miscellaneous Metal and Plastic Part Coatings—Industry Request for Reconsideration, from Stephen Page to Air Branch Chiefs, Regions I-X, dated June 1, 2010. The applicability threshold for plastic parts coatings was revised from 10 tons total potential emissions to 3 tons actual VOC emissions per 12-month period, before controls. Connecticut's new VOC coating limits are also lower than most of the previously SIP-approved limits. Although some specialty coatings limits are higher than previous limits, the general use coating limit is lower and these coatings are more frequently used. In addition, the revised rule's applicability is much broader. Thus, the revised rule satisfies the anti-back sliding requirements in Section 110(l) of the CAA. This analysis is also consistent with the EPA guidance memorandum entitled Approving SIP Revisions Addressing VOC RACT Requirements for Certain Coating Categories.

D. Flexible Package Printing

Connecticut's newly adopted Section 22a-174-20(ff), “Flexible Package Printing,” is consistent with the recommendations for RACT found in EPA's CTG for Flexible Package Printing (EPA-453/R-06-003, September 2006). The regulation applies to flexible package printing press owners or operators that purchase for their printing operation 855, or more, gallons of coatings, adhesives, cleaning solvents and solvent based inks, in the aggregate, per any rolling 12-month period. These sources are required to follow work practices for material storage, spill cleanup, and containment as well as maintain records of all inks, coatings, adhesives, and cleaning solvents used. Additionally, flexible package printing presses with a potential to emit, prior to controls, 25 tons or more VOCs per year are required to control their press VOC emissions by using low VOC inks, coatings, and adhesives or a capture and control device. Where this regulation refers to the “daily weighted average of the VOC content of the inks, coatings and adhesives used,” EPA interprets this to be the sum of the volume of each ink, coating, and adhesive applied each day, multiplied by the VOC content of each ink, coating, and adhesive applied each day; divided by the total volume of all materials applied each day.³

³ See page 335 of the EPA document “Model Volatile Organic Compound Rules for Reasonably Available Control Technology,” June 1992.

E. Offset Lithographic Printing and Letterpress Printing

Connecticut's newly adopted Section 22a-174-20(gg), “Offset Lithographic Printing and Letterpress Printing,” is consistent with the recommendations for RACT found in EPA's CTG for Offset Lithographic Printing and Letterpress Printing (EPA-453/R-06-002, September 2006). The regulation applies to the owner or operator of any offset lithographic or letterpress printing press who purchases for the printing operation at least 855 gallons of cleaning solvents, fountain solution additives and solvent-based inks in aggregate per any rolling 12-month period. Applicable sources are required to limit the VOC content of inks, coatings, adhesives, and cleaning solvents or use VOC pollution control devices. These sources are also required to follow work practices for material application, storage, spill cleanup, and containment as well as maintain records of the regulated materials used.

F. Large Appliance Coatings

Connecticut's Section 22a-174-20(hh), “Large Appliance Coatings,” is consistent with the recommendations for RACT found in EPA's CTG for Large Appliance Coatings (EPA 453/R-07-004, September 2007). The new regulation applies to an owner or operator of any large appliance coating unit who purchases for a coating operation at least 855 gallons of coatings and cleaning solvents in the aggregate per any rolling 12-month period. The rule does not apply to the following: Stencil coatings; safety-indicating coatings; solid-film lubricants; electric-insulating and thermal-conductive coatings; touch-up coatings; repair coatings; and coatings applied with a hand-held aerosol can. Applicable sources must control VOC emissions using one of three methods: Low VOC coatings; operation of a capture and control device; or an alternative method approved by the state and EPA. The regulation also specifies methods for general work practices, coating application methods and record keeping requirements. The regulation requires coating to be applied by one of several specified methods, but also allows the use of any other coating application methods capable of achieving a transfer efficiency equivalent to, or better than, that provided by HVLP spray application. The EPA CTG for Large Appliance Coatings defines transfer efficiency as “the percent of coating applied to the metal furniture component or product,” and EPA interprets the Connecticut regulation as giving the term the same meaning as the CTG.

G. Industrial Solvent Cleaning and Spray Application Equipment Cleaning

Connecticut's newly adopted Section 22a-174-20(ii), “Industrial Solvent Cleaning,” and Section 22a-174-20(jj), “Spray Application Equipment Cleaning,” are consistent with the recommendations for RACT found in EPA's CTG for Industrial Cleaning Solvents (EPA-453/R-06-001, September 2006).

Subsection (ii) applies to an owner or operator of any premises who purchases for use at the premises at least 855 gallons of cleaning solvents in the aggregate per rolling 12-month period. There are multiple specialty cleaning exemptions specified in the rule. Applicable solvent cleaning VOC emissions must be controlled by one of three methods: Using solvents with a VOC content less than 50 g/l as applied; using solvents with a vapor pressure no greater than 8 mm mercury (Hg) at 20 degrees Celsius; or using a pollution control device with an overall efficiency of at least 85%. The applicable industrial solvent cleaning sources are also required to follow work practices for material storage, spill cleanup, and containment as well as maintain records of all cleaning solvents used.

Subsection (jj) addresses the cleaning of spray application equipment. A non-exempt owner or operator of any spray application equipment is required to control VOC emissions by one of the following methods: Use of an enclosed gun cleaner; use of cleaning solvents that do not exceed 50 g/l VOCs with specified application methods; or operation of an air pollution control device with at least 85% efficiency. Certain spray application equipment exceptions are specified in the rule. For all applicable equipment, facilities are required to maintain records and use work practices to reduce VOC emissions and minimize spills during material use, storage, containment, and conveyance.

H. Consumer Products

Connecticut's newly adopted Section 22a-174-40, “Consumer Products,” is based on the 2006 Ozone Transport Commission (OTC) Model Rule for Consumer Products. Section 22a-174-40 contains limits for more categories of consumer products than EPA's National Volatile Organic Compound Emission Standards for Consumer Products rule at 40 CFR Part 59 Subpart C (63 FR 48831; September 11, 1998). The regulation limits are also equal to, or more stringent than, those found in EPA's consumer products rule.

The consumer products listed in Section 22a-174-40 include items sold to retail consumers for household or automotive use, as well as products used in commercial and institutional settings, such as beauty shops, schools and hospitals. The regulation has VOC content limits for 102 categories. In addition to the VOC emissions limits, the regulation includes: Limits on toxic contaminants in antiperspirants and deodorants and other consumer products; requirements for charcoal lighter materials, aerosol adhesives and floor wax strippers; requirements for products containing ozone-depleting compounds; product labeling requirements; and record keeping, reporting and testing requirements.

I. Adhesives and Sealants

Connecticut's newly adopted Section 22a-174-44, “Adhesives and Sealants,” is based on the OTC Model Rule for Adhesives and Sealants. Section 22a-174-44 includes all of the approaches to controlling VOC emissions found in EPA's CTG for Miscellaneous Industrial Adhesives (EPA 453/R-08-005, September 2008): VOC content limits for adhesives and cleaning solvents; work practices; record keeping; air pollution control equipment requirements; surface preparation requirements; and spray gun cleaning requirements. Connecticut's rule is also more comprehensive than the CTG, since it establishes VOC content limits for sealants and sealant primers (in addition to adhesives as covered by the CTG), regulates sellers and manufacturers, not just appliers, of regulated adhesives, adhesive primers and sealants, and contains a VOC composite vapor pressure limit for cleaning materials. The exemptions of Section 22a-174-44 are similar to those recommended in the CTG. While there are minor differences in the named adhesive categories (and emission limits) included in the CTG and Section 22a-174-44, those differences are inconsequential compared to the broader applicability of Section 22a-174-44 noted above.

J. Withdrawn Provisions

By letter dated March 13, 2013, Connecticut withdrew a number of similar provisions from the April 29, 2010 submittal. First, with respect to the definition of “as-applied VOC content” in Sections 22a-174-20(ff)(1)(K), 22a-174-20(gg)(1)(O), 22a-174-20(hh)(1)(CC), 22a-174-20(ii)(1)(I), and 22a-174-20(jj)(1)(H), Connecticut withdrew the phrase “or other method approved by the commissioner” from each of the cited provisions. Second, with respect to the requirements to document control device efficiency and capture efficiency in Sections 22a-174-20(ff)(5)(B)(vi), 22a-174-20(gg)(7)(B)(vi), 22a-174-20(hh)(7)(B)(vi), 22a-174-20(ii)(6)(B)(vi), and 22a-174-20(jj)(6)(B)(vii), Connecticut withdrew the phrase “or alternate method approved by the commissioner” from each of the cited provisions. Third, Connecticut withdrew Section 22a-174-20(jj)(3)(D), which allows the use of a cleaning solvent that does not meet the VOC content limitations of the rule upon approval by the commissioner.

Additionally, by letter dated April 3, 2013, Connecticut withdrew a number of provisions from the February 8, 2008 submittal. With respect to consumer product exemptions, Connecticut withdrew Sections 22a-174-40(c)(4) through (7), which allow for variances, exemptions, and alternative control plans (ACPs). With respect to consumer product testing, Connecticut also withdrew Section 22a-174-40(f)(2)(C) through (D), which allows for alternative test methods.

EPA is not acting on the withdrawn phrases (which provide alternative methods for compliance and/or for determining or demonstrating compliance), and the federally approved SIP will not contain these phrases. However, Connecticut's withdrawal of these provisions from its SIP submission does not affect their validity under state law; it means only that they are not applicable under federal law. For alternative methods, limits, or exemptions approved under these provisions to be federally applicable, the alternative method, limit, or exception must be approved by EPA as a SIP revision. See CAA Section 110(i). Until Connecticut submits an alternative method or limit to EPA as a SIP revision and EPA approves that SIP revision, the alternative method or limit is not effective as a matter of federal law. See 61 FR 38665. Regulated entities that receive approval from Connecticut to use alternative methods or limits under these provisions should take note of this distinction between federal and state law.

K. Minor Changes and Negative Declarations

Connecticut's April 29, 2010, SIP revision also includes minor changes to the following subsections of Section 22a-174-20: (f) “Organic solvents;” (l) “Metal cleaning;” and (ee) “Reasonably available control technology for large sources.” These sections were revised to expand the list of referenced regulations to include the newly adopted sections discussed above. Also, on May 30, 2012, Connecticut requested the withdrawal of Section 22a-174-20(g) from the SIP given that architectural coatings are now addressed in a more comprehensive manner in section 22a-174-41, “Architectural and Industrial Maintenance Coating,” which has been approved by EPA (77 FR 50595, August 22, 2012).

In addition, Connecticut's April 29, 2010 SIP revision also includes negative declarations for three source categories: Flat wood paneling coating; fiberglass boat manufacturing; and automobile and light-duty truck assembly coating. To make this determination, Connecticut reviewed the inventory of sources for facilities with North American Industrial Classification System codes that correspond to the sources covered in the following CTGs: Flat Wood Paneling Coatings (EPA-453/R-06-004, September 2006); Fiberglass Boat Manufacturing Materials (EPA 453/R-08-004, September 2008); and Automobile and Light-Duty Truck Assembly Coatings (EPA 453/R-08-006, September 2008). Connecticut also interviewed its field staff, and searched telephone directories and Internet Web pages (including other state government databases) to identify and evaluate sources that might meet the applicability requirements. Connecticut ultimately determined that there are no sources covered by these CTGs in the State of Connecticut.

L. Conclusion

In summary, as noted above, EPA has reviewed Connecticut's new and revised VOC regulations and found that they are consistent with the relevant CTGs and OTC recommendations. In addition, Connecticut's process for determining the categories for which the state should make negative declarations was reasonable. Therefore, if this proposal is finalized, Connecticut will have met the CAA requirement to adopt RACT for all the 2006, 2007, and 2008 CTGs.

V. Proposed Action

EPA is proposing to approve the following changes to Connecticut's Section 22a-174-20 as meeting RACT for the relevant CTG categories: Revised subsection (p), Metal furniture coatings; revised subsection (q), Paper, film, and foil coatings; revised subsection (s), Miscellaneous metal and plastic parts coatings; new subsection (ff), Flexible package printing; new subsection (gg), Offset lithographic printing and letterpress printing; new subsection (hh), Large appliance coatings; new subsection (ii), Industrial solvent cleaning; new subsection (jj), Spray application equipment cleaning; and new subsection (kk), Pleasure craft coatings. Additionally, EPA is proposing to approve Connecticut's new Section 22a-174-40, Consumer Products, and Section 22a-174-44, Adhesives and Sealants, as meeting RACT.

EPA is not proposing any action on the portions of sections 22a-174-20(ff)(1)(K), (ff)(5)(B)(vi), (gg)(1)(O), (gg)(7)(B)(Vi), (hh)(1)(CC), (hh)(7)(B)(vi), (ii)(1)(I), (ii)(6)(B)(vi), (jj)(1)(H), (jj)(3)(D), and (jj)(6)(B)(vii), which Connecticut withdrew from its April 29, 2010 SIP submittal. Likewise, EPA is not proposing any action on the portions of Sections 22a-174-40(c)(4) through (7) and 22a-174-40(f)(2)(C) through (D), which Connecticut withdrew from its February 1, 2008 SIP submittal.

EPA is proposing to approve minor revisions to the following subsections of Connecticut's Section 22a-174-20: (f)(9); (l)(1) and (2); (aa)(1); (cc)(2) and (3); and subsection (ee), Reasonably available control technology for large sources. EPA is also proposing to approve Connecticut's request to withdraw subsection (g) of Section 22a-174-20, Architectural coatings, from the SIP. Lastly, EPA is proposing to approve Connecticut's negative declarations for three source categories: Flat wood paneling coating; fiberglass and boat manufacturing; and automobile and light-duty truck assembly coating. Therefore, if this proposal is finalized, Connecticut will have satisfied the CAA requirement to adopt RACT for all of the 2006, 2007, and 2008 CTGs.

EPA is soliciting public comments on the issues discussed in this proposal or on other relevant matters. These comments will be considered before EPA takes final action. Interested parties may participate in the Federal rulemaking procedure by submitting written comments to the EPA New England Regional Office listed in the ADDRESSES section of this Federal Register, or by submitting comments electronically, by mail, or through hand delivery/courier following the directions in the ADDRESSES section of this Federal Register.

VI. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this proposed action merely approves state law as meeting Federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Incorporation by reference, Intergovernmental relations, Ozone, Reporting and recordkeeping requirements, Volatile organic compounds.

Authority: 42 U.S.C. 7401 et seq.

Dated: May 2, 2013.
H. Curtis Spalding,
Regional Administrator, EPA New England.

[FR Doc. 2013-12498 Filed 5-23-13; 8:45 am]

BILLING CODE 6560-50-P